NUCLEAR REGULATORY COMMISSION

Public Workshop To Discuss Current Issues Associated With the Decommissioning of Nuclear Facilities

AGENCY: Nuclear Regulatory Commission (NRC).

ACTION: Notice of a public workshop to discuss current issues associated with the decommissioning of nuclear facilities.

SUMMARY: This notice announces a Public Workshop to discuss current issues associated with the decommissioning of nuclear facilities. The goal of the workshop will be to provide a forum for NRC staff to discuss, with nuclear industry and other interested stakeholders, NRC's process, and guidance, for developing and evaluating decommissioning plans (DPs) and license termination plans (LTPs), current issues associated with the decommissioning of nuclear facilities and to identify areas and strategies for improving the decommissioning process.

SUPPLEMENTAL INFORMATION: On July 21, 1997, the U.S. Nuclear Regulatory Commission (NRC) published the final rule on Radiological Criteria for License Termination (the License Termination Rule or LTR) as Subpart E to 10 CFR Part 20. NRC regulations require that materials licensees submit DPs to support the decommissioning of its facility if it is required by license condition, or if the procedures and activities necessary to carry out the decommissioning have not been approved by NRC and these procedures could increase the potential health and safety impacts to the workers or the public. NRC regulations also require that reactor licensees submit Post-shutdown Decommissioning Activities Reports and LTPs to support the decommissioning of nuclear power facilities.

Since the promulgation of the LTR, NRC staff has been developing guidance to assist both regulators and the regulated community in complying with the LTR. To facilitate early and continuing input from the regulated community and other stakeholders on this guidance, NRC held several workshops in 1998, 1999, and in 2000 on various technical issues associated with the decommissioning of nuclear facilities. As part of our continuing efforts to involve the regulated community and other stakeholders in our decommissioning program, we will hold a workshop November 8-9, 2000, at the Commission's Headquarters building in Rockville, Maryland to discuss our current process for reviewing information supporting the decommissioning of nuclear facilities and to obtain perspectives from interested stakeholders on the manner in which we are implementing the LTR.

The workshop will be held at the NRC Headquarters, in the Auditorium of Two White Flint North Building at 11545 Rockville Pike, Rockville, Maryland. This workshop will be open to the public and registration will be held from 7:45 to 8:30 a.m. on the first day of the workshop, November 8, 2000, at the entrance of the Auditorium. There will not be pre-registration. The workshop will run from 8:30 a.m to 4:45 p.m. on both days. Each day will feature presentations from NRC headquarters and regional staff and roundtable discussion on current issues in decommissioning. In addition, we plan to have the workshop transcribed, and the transcripts, and any material presented at the workshop, will be posted on the NRC's Website.

NRC strongly encourages all interested stakeholders to attend and participate in this workshop, as it will offer a unique opportunity to provide the NRC staff and the nuclear power industry with insights, perspectives, and information that stakeholders feel is important for the NRC staff to consider as it seeks ways to improve our decommissioning program.

FOR FURTHER INFORMATION CONTACT: Dominick A. Orlando, Decommissioning Branch, Division of Waste Management, Office of Nuclear Material Safety and Safeguards, at (301) 415-6749.

Dated at Rockville, Maryland this 3rd day of August, 2000.
For the Nuclear Regulatory Commission.
Larry W. Camper,
Chief, Decommissioning Branch, Division of Waste Management, Office of Nuclear Material Safety and Safeguards.

[FR Doc. 00-20335 Filed 8-9-00; 8:45 am]

BILLING CODE 7590-01-P